ENVIRONMENTAL PROTECTION AGENCY

[EPA-R08-SFUND-2022-0881; FRL-10392-01-R8]

Amendment to Prospective Purchaser Agreement, Anaconda Smelter Superfund Site, Anaconda, Deer Lodge County, Montana

AGENCY: Environmental Protection Agency (EPA).

ACTION: Notice of proposed agreement; request for public comment.

SUMMARY: Notice is hereby given by the U.S. Environmental Protection Agency (EPA), Region 8, of a proposed amendment to a prospective purchaser agreement originally agreed to in 1994. The 1994 agreement, with the Montana Department of Environmental Quality on behalf of the State of Montana (the “State”), Anaconda-Deer Lodge County, and the Old Works Golf Course Authority, Inc., (“Purchasers”), provided liability protection to the Purchasers in return for the implementation of certain institutional controls such as the Development Permit System, a county zoning system that regulates development in the county, and restrictive covenants limiting the use of certain properties affected by contamination, and also provided for the operation and maintenance of the Old Works Golf Course. The amended agreement, entitled Amendment to Agreement and Covenant Not to Sue, provides for the implementation of updated institutional controls, including an updated Development Permit System and modified restrictive covenants. Other work under the amended agreement includes updated operations and maintenance plans for the Old Works Golf Course, the Residential Attic Abatement Implementation Plan that provides for cleaning of attics, the Interior/Exterior Dust Program that provides for cleanup of contaminated dusts, and the Community Protective Measures Plan, an information program.

DATES: Comments must be submitted on or before December 12, 2022.

ADDRESSES: The proposed agreement and additional background information relating to the agreement will be available upon request. To reduce the risk of COVID-19 transmission, for this action we do not plan to offer hard copy review of the docket. Comments and requests for a copy of the proposed agreement should be addressed to Anntasia Copeland, Enforcement Specialist, Superfund and Emergency Management Division, Environmental Protection Agency—Region 8, Mail Code 8SEM-PAC, 1595 Wynkoop Street, Denver, Colorado 80202, telephone number: (303) 312-6343, email address: copeland.anntasia@epa.gov and should reference the Anaconda Smelter Superfund Site. You may also send comments, identified by Docket ID No. EPA-R08-SFUND-2022-0881 to http://www.regulations.gov. Follow the online instructions for submitting comments.

FOR FURTHER INFORMATION CONTACT: Andy Lensink, Assistant Regional Counsel, Office of Regional Counsel, Environmental Protection Agency, Region 8, Mail Code 8 ORC-LEC, 1595 Wynkoop, Denver, Colorado 80202, telephone number: (303) 312-6908, email address: lensink.andy@epa.gov.

SUPPLEMENTARY INFORMATION: For thirty (30) days following the date of publication of this document, the Agency will receive written comments relating to the agreement. The Agency will consider all comments received and may modify or withdraw its consent to the agreement if comments received disclose facts or considerations that indicate that the agreement is inappropriate, improper, or inadequate.

Betsy Smidinger,
Division Director, Superfund and Emergency Management Division, Region 8.

[FR Doc. 2022-24489 Filed 11-9-22; 8:45 am]

BILLING CODE 6560-50-P